DEPARTMENT OF THE INTERIOR

National Park Service

[NPS-WASO-NAGPRA-NPS0026716; PPWOCRADN0-PCU00RP14.R50000]

Notice of Inventory Completion: U.S. Department of Defense, Department of the Navy, Washington, DC; Correction

AGENCY: National Park Service, Interior.

ACTION: Notice; correction.

SUMMARY: The Department of the Navy has corrected an inventory of human remains and associated funerary objects, published in a Notice of Inventory Completion in the Federal Register on February 26, 2015. This notice corrects the minimum number of individuals, the number of associated funerary objects, and presents additional findings of cultural affiliation. Lineal descendants or representatives of any Indian Tribe or Native Hawaiian organization not identified in this notice that wish to request transfer of control of these human remains and associated funerary objects should submit a written request to the Department of the Navy. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of the Navy at the address in this notice by December 19, 2018.

ADDRESSES: Mr. Joseph Montoya, Environmental Planning and Conservation Branch Manager, Naval Base Ventura County, 311 Main Road, Building 1, Code N45V, Point Mugu, CA 93042, telephone (805) 989-3804, email joseph.l.montoya@navy.mil.

SUPPLEMENTARY INFORMATION: Notice is here given in accordance with the Native American Graves Protection and Repatriation Act (NAGPRA), 25 U.S.C. 3003, of the correction of an inventory of human remains and associated funerary objects under the control of the Department of the Navy, and in the physical custody of eight repositories which include the Fowler Museum at UCLA, Natural History Museum of Los Angeles County, San Diego Museum of Man, Santa Barbara Museum of Natural History, Southwest Museum of the Autry National Center of the American West, U.C. Berkeley Phoebe A. Hearst Museum of Anthropology, Naval Air Weapons Station China Lake Curation Facility, and Naval Base Ventura County San Nicolas Island Curation Facility. The human remains and associated funerary objects were removed from San Nicolas Island, Naval Base Ventura County, Ventura County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of human remains, the number of associated funerary objects, and cultural affiliation published in a Notice of Inventory Completion in the Federal Register (80 FR 10506-10511, February 26, 2015). After publication, additional human remains and associated funerary objects were found in repository collections. Transfer of control of the items in this correction notice has not occurred.

Correction

In the Federal Register (80 FR 10507, February 26, 2015), column 1, paragraph 3, sentence 1 is corrected by substituting the following sentence:

The human remains representing, at minimum, 547 individuals and the 1,017 associated funerary objects listed in this notice are in eight different locations in California.

In the Federal Register (80 FR 10507, February 26, 2015), column 1, paragraph 3, sentence 2 is corrected by substituting the following sentence:

These are the Fowler Museum at UCLA, the Natural History Museum of Los Angeles County, the Naval Base Ventura County (NBVC) San Nicolas Island Curation Facility, the San Diego Museum of Man, the Santa Barbara Museum of Natural History, the Southwest Museum of the American Indian at the Autry Museum of the American West, the U.C. Berkeley Phoebe A. Hearst Museum of Anthropology and the Naval Air Weapons Station (NAWS) China Lake Curation Facility.

In the Federal Register (80 FR 10507, February 26, 2015), column 1, paragraph 4, sentence 2, under the heading “(i) Navy-controlled SNI Human Remains and Associated Funerary Objects at the Fowler Museum at UCLA,” is corrected by substituting the following sentence:

Primary documentation for these human remains is limited.

In the Federal Register (80 FR 10507, February 26, 2015), column 1, paragraph 4, under the heading “(i) Navy-controlled SNI Human Remains and Associated Funerary Objects at the Fowler Museum at UCLA,” is corrected by inserting the following sentence after sentence 2:

One sub-adult and one adult male individual were collected from site CA-SNI-19 (the Indian Dwelling Site at Corral Harbor). For the remaining two individuals, no specific provenience information is available beyond their SNI origin.

In the Federal Register (80 FR 10507, February 26, 2015), column 1, paragraph 5, under the heading “(i) Navy-controlled SNI Human Remains and Associated Funerary Objects at the Fowler Museum at UCLA,” is corrected by substituting the following paragraph:

In 1951, human remains representing, at minimum, 16 individuals (15 adult (five identified as female, four as male and six undetermined), and one sub-adult) were collected by Stewart L. Peck from site CA-SNI-18 and donated to UCLA. No known individuals were identified. The four associated funerary objects are animal bones, comingled with the human remains of catalog number 136a.

In the Federal Register (80 FR 10507, February 26, 2015), column 1, paragraph 6, under the heading “(i) Navy-controlled SNI Human Remains and Associated Funerary Objects at the Fowler Museum at UCLA,” is corrected by deleting the following paragraph:

In 1951, human remains representing at minimum, 2 individuals were collected by Stewart L. Peck and donated to UCLA. No primary documentation or specific provenience information beyond their SNI origin exists for these human remains. No known individuals were identified. No associated funerary objects are present.

In the Federal Register (80 FR 10507, February 26, 2015), column 2, paragraph 1, sentence 1, under the heading “(i) Navy-controlled SNI Human Remains and Associated Funerary Objects at the Fowler Museum at UCLA,” is corrected by substituting the following sentence:

Sometime prior to 1952, human remains representing, at minimum, two individuals (both adult, one further identified as male) were collected by an unknown party and donated to UCLA.

In the Federal Register (80 FR 10507, February 26, 2015), column 2, paragraph 1, sentence 4, under the heading “(i) Navy-controlled SNI Human Remains and Associated Funerary Objects at the Fowler Museum at UCLA,” is corrected by substituting the following sentences:

The 17 associated funerary objects, listed as individual or grouped catalogued items, are one abalone fish hook, one biface fragment, five unmodified shells, one crab claw fragment, two unmodified animal bone fragments, one obsidian point, one perforated disk or abalone shell fish hook blank, one steatite bowl fragment, one lot tarring pebbles, one worked disk or abalone shell fish hook blank, two worked shells. One shell fish hook fragment is listed in the catalog records, but is missing from the museum collections.

In the Federal Register (80 FR 10507, February 26, 2015), column 2, paragraph 2, sentence 1, under the heading “(i) Navy-controlled SNI Human Remains and Associated Funerary Objects at the Fowler Museum at UCLA,” is corrected by substituting the following sentence:

Prior to 1958, human remains representing, at minimum four individuals (three adults (one female, two male), and one sub-adult), were removed from site CA-SNI-15 (NI-15) by H.B. Allen and donated to UCLA.

In the Federal Register (80 FR 10507, February 26, 2015), column 2, paragraph 3, under the heading “(i) Navy-controlled SNI Human Remains and Associated Funerary Objects at the Fowler Museum at UCLA,” is corrected by substituting the following paragraph:

In 1959, human remains representing, at minimum, 61 individuals were collected during excavations conducted by Sam-Joe Townsend, Fred Reinman, Marshall McKusick, Clement Meighan and others from the UCLA Archaeological Survey. These human remains were collected from six SNI sites—CA-SNI-14, CA-SNI-15, CA-SNI-16, CA-SNI-18, CA-SNI-40, and CA-SNI-56. In August 1959, excavations at SNI-14 removed an infant individual. Excavations at SNI-15 removed a burial with two adult females interred. Excavations at SNI-16 removed 21 individuals (16 adults, of which three are male and six are female, four sub-adults, and an individual represented by a scapula fragment). Excavations at SNI-18 removed seven individuals (seven adults, four identified as male and one female). Excavations at SNI-40 removed 20 burials that included a minimum of 26 individuals (17 adults, of which nine were identified as male and five as female, three infants, five juveniles, and one sub-adult). In September 1959, a survey of SNI-40 removed an adult individual represented by 16 teeth from a looted grave. Excavations from SNI-56 removed two burials representing three adult individuals (identified further as one male, one female and one undetermined). No known individuals were identified. The 269 associated funerary objects, listed as individual or grouped catalogued items, are divided among the different site numbers. The two associated funerary objects from SNI-14 are one bone spatulate, and one lot of Olivella shell beads. The three associated funerary objects from SNI-15 are one bird bone needle, one lot of bone beads, and one steatite bead fragment. The 100 associated funerary objects from SNI-16 are four lots of asphaltum fragments with basketry impressions, six unmodified animal bone fragments, one bird humerus awl, one animal bone with asphaltum, one bone fishhook, one sea lion tooth pendant, four chalcedony pendants, one unmodified jasper fragment, one yellow ochre fragment, one flaked shale object, one shell bead, one shell implement, four abalone shell containers (holes sealed with asphaltum), two unmodified shell fragments, one lot Olivella shell beads, one modified abalone shell fragment, 69 abalone shell pendants. Three shell pendants and five abalone shell containers are missing from the collection. The 73 associated funerary objects from SNI-18 are one bone harpoon dart, three shell ornaments, one possible pelican stone effigy, one stone ornament with a hole drilled in the center, two stone bifaces, one stone chopper, one stone scraper, one stone hammerstone, one lot of stone fragments, 15 abalone fish hook blanks, three abalone fish hooks, 11 abalone shell containers, one broken stone pipe with bird bone stem, one bone pipe stem with asphaltum, five bone prys, one bird bone object, eight worked bone fragments, one worked wood fragment, one lot of wood fragments, one steatite grooved pebble, one tarring pebble, one lot of asphaltum fragments, six lots of unmodified animal bone fragments, one lot of shell fragments, two sea urchin fragments, one yellow ochre ball, and one lot of burned wood fragments. One stone charmstone, one stone pipe with bone stem, and one abalone shell fish hook are catalogued, but missing from the collection. The 88 associated funerary objects from SNI-40 are three stone perforated rings, seven steatite pointed objects, one worked stone fragment, one chert projectile point, one quartz projectile point basal fragment, one siltstone net sinker, one bone pendant, one sea mammal canine tooth pendant, one lot of bone spatulate fragments, seven lots of worked bone, 19 lots of shell beads, five unmodified shell fragments, two worked abalone fragments, five lots of unmodified animal bone fragments, one crab claw fragment, one asphaltum fragment, six lots of asphaltum with basketry impressions, one lot of tarring pebbles, one bag of charcoal fragments, one yellow ochre fragment, and 22 shell containers. One stone pipe, one stone perforated ring, one steatite effigy, one chert projectile point with asphaltum at one end, and one obsidian projectile point are missing from the collection. The three associated funerary objects from SNI-56 are one stone point, two bone fish gorge. One perforated steatite stone is missing from the collection. In 2000, one Haliotis shell bead and one bird bone were sent for destructive analysis and are missing from the collection.

In the Federal Register (80 FR 10507, February 26, 2015), column 3, paragraph 1, under the heading “(i) Navy-controlled SNI Human Remains and Associated Funerary Objects at the Fowler Museum at UCLA,” is corrected by substituting the following paragraph:

Navy-controlled NAGPRA items at the Fowler Museum also include human remains representing, at minimum, an additional three individuals (two adults identified as a male and female, and an infant) that lack specific information on the date of collection, or the site provenience beyond their SNI origin. The collection is labeled as Burial 1 and was donated to the UCLA Dickey Biology Collections prior to 1990. It was transferred to the Fowler Museum at UCLA for NAGPRA inventory purposes. No known individual was identified. No associated funerary objects are present.

In the Federal Register (80 FR 10507, February 26, 2015), column 3, paragraph 2, under the heading “(i) Navy-controlled SNI Human Remains and Associated Funerary Objects at the Fowler Museum at UCLA,” is corrected by deleting the following paragraph:

One additional group of human remains representing, at minimum, 9 individuals, that also lack specific information on the date of collection/donation or a collector, does have accompanying documentation indicating it was collected from site CA-SNI-18. No known individuals were identified. No associated funerary objects are present.

In the Federal Register (80 FR 10507, February 26, 2015), column 3, paragraph 3, sentence 1, under the heading “(ii) Navy-controlled SNI Human Remains and Associated Funerary Objects at the Natural History Museum of Los Angeles County,” is corrected by substituting the number “49” with the number “51.”

In the Federal Register (80 FR 10507, February 26, 2015), column 3, paragraph 4, under the heading “(ii) Navy-controlled SNI Human Remains and Associated Funerary Objects at the Natural History Museum of Los Angeles County,” is corrected by substituting the following paragraph:

In August 1933, human remains representing, at minimum, one individual were collected by an individual named Rose and donated to the Antelope Valley Museum. The human remains were transferred to the Natural History Museum of Los Angeles County by Grace Oliver of the Antelope Valley Museum in 1979. No primary documentation or specific provenience information beyond their SNI origin exists for these human remains. No known individuals were identified. No associated funerary objects are present.

In the Federal Register (80 FR 10507, February 26, 2015), column 3, paragraph 5, sentence 3, under the heading “(ii) Navy-controlled SNI Human Remains and Associated Funerary Objects at the Natural History Museum of Los Angeles County,” is corrected by substituting the following sentence:

The nine associated funerary objects are one composite bone fishhook barb, one sea lion rib bone flaker, one whale bone implement, one bone tube bead, one conical sandstone pipe, one biface fragment, one projectile point in two-pieces, one biface tip, and one large sandstone pipe.

In the Federal Register (80 FR 10508, February 26, 2015), column 1, paragraph 2, under the heading “(ii) Navy-controlled SNI Human Remains and Associated Funerary Objects at the Natural History Museum of Los Angeles County,” is corrected by deleting the following paragraph:

In 1959, human remains representing, at minimum, 2 individuals were collected by Ed Mitchell and Sam-Joe Townsend and donated to the Natural History Museum of Los Angeles County. No specific provenience information beyond their SNI origin exists for these human remains. No known individuals were identified. No associated funerary objects are present.

In the Federal Register (80 FR 10508, February 26, 2015), column 1, paragraph 3, sentence 1, under the heading “(ii) Navy-controlled SNI Human Remains and Associated Funerary Objects at the Natural History Museum of Los Angeles County,” is corrected by substituting the following sentence:

In 1959, human remains representing, at minimum, seven individuals were collected by Ed Mitchell and Sam-Joe Townsend from sites CA-SNI-18 and other unnumbered SNI sites, and donated to the Natural History Museum of Los Angeles County.

In the Federal Register (80 FR 10508, February 26, 2015), column 1, paragraph 3, under the heading “(ii) Navy-controlled SNI Human Remains and Associated Funerary Objects at the Natural History Museum of Los Angeles County,” is corrected by inserting the following sentence after sentence 1:

No specific provenience information beyond their SNI origin exists for these human remains.

In the Federal Register (80 FR 10508, February 26, 2015), column 1, paragraph 4, sentence 1, under the heading “(ii) Navy-controlled SNI Human Remains and Associated Funerary Objects at the Natural History Museum of Los Angeles County,” is corrected by substituting the following sentence:

In 1966, human remains representing, at minimum, one individual were collected by S. Ray Harmon and donated to the Natural History Museum of Los Angeles County in 1979.

In the Federal Register (80 FR 10508, February 26, 2015), column 1, paragraph 5, sentence 3, under the heading “(ii) Navy-controlled SNI Human Remains and Associated Funerary Objects at the Natural History Museum of Los Angeles County,” is corrected by substituting the following sentence:

The four associated funerary objects, listed as individual or grouped catalogued items, are one unmodified large black abalone shell, one lot of asphaltum fragments, one abalone shell pendant, and one lot of bird bones.

In the Federal Register (80 FR 10508, February 26, 2015), column 1, paragraph 6, sentence 1, under the heading “(ii) Navy-controlled SNI Human Remains and Associated Funerary Objects at the Natural History Museum of Los Angeles County,” is corrected by substituting the number “13” with the number “10.”

In the Federal Register (80 FR 10508, February 26, 2015), column 1, paragraph 6, sentence 3, under the heading “(ii) Navy-controlled SNI Human Remains and Associated Funerary Objects at the Natural History Museum of Los Angeles County,” is corrected by substituting the following sentence:

The three associated funerary objects, listed as individual or grouped catalogued items, are one lot of mammal bones, including whale ribs, one killer whale tooth, and one lot of fish bone.

In the Federal Register (80 FR 10508, February 26, 2015), column 2, paragraph 1, sentence 1, under the heading “(iii) Human Remains and Associated Funerary Objects in the Possession of the Naval Base Ventura (NBVC) San Nicolas Island Curation Facility,” is corrected by substituting the following sentence:

In the early 1900s, human remains representing, at minimum, eight individuals were collected by Arthur Sanger.

In the Federal Register (80 FR 10508, February 26, 2015), column 2, paragraph 1, sentence 6, under the heading “(iii) Human Remains and Associated Funerary Objects in the Possession of the Naval Base Ventura (NBVC) San Nicolas Island Curation Facility,” is corrected by substituting the following sentence:

The two associated funerary objects are projectile points, embedded within the ilium and cranium of associated human remains.

In the Federal Register (80 FR 10508, February 26, 2015), column 2, paragraph 2, under the heading “(iii) Human Remains and Associated Funerary Objects in the Possession of the Naval Base Ventura (NBVC) San Nicolas Island Curation Facility,” is corrected by substituting the following paragraph:

In 1938, human remains representing, at minimum, four individuals were collected from SNI sites by UCLA. These human remains were later donated to Loyola Marymount University in 1962, which returned them to SNI holdings in 2006. The human remains were collected from six SNI sites—SN-1, SN-9, SN-12, SN-17, SN-18, and SN-171—and some unnumbered locations. No known individuals were identified. The 29 associated funerary objects, listed as individual or grouped catalogued items, are divided among the different sites. The 12 associated funerary objects from SN-1 are seven shell fish hook fragments, one Norrisia norrisi fish hook fragment, one worked Haliotis rufescens fragment, one pendant, one sandstone hammer stone, and one broken soapstone pipe. The one associated funerary object from SN-17 is a fish hook fragment. The 13 associated funerary objects from SN-18 are one lot of lithics, one lot of unworked sandstone, one lot of oxidized metal, one lot of unworked mussel shell, one quartzite flake, one chert projectile point base, four fish hook fragments, one unmodified shell, one unmodified mammal bone, and one lot of unmodified fish bone. The three associated funerary objects from unknown locations are one shell fish hook fragment, one broken awl, and one lot of faunal remains.

In the Federal Register (80 FR 10508, February 26, 2015), column 2, paragraph 3, under the heading “(iii) Human Remains and Associated Funerary Objects in the Possession of the Naval Base Ventura (NBVC) San Nicolas Island Curation Facility,” is corrected by deleting the following paragraph:

In 1959, human remains representing, at minimum, 2 individuals were collected during excavations conducted by Sam-Joe Townsend and Fred Reinman from the UCLA Archaeological Survey. These human remains were collected from 2 SNI Sites—CA-SNI-14 and CA-SNI-15. These two individuals belong to the same collection from the 1959 excavations located in the Fowler Museum at UCLA and reported under subparagraph (i) of this notice. No known individuals were identified. No associated funerary objects are present.

In the Federal Register (80 FR 10508, February 26, 2015), column 2, paragraph 5, sentence 4, under the heading “(iii) Human Remains and Associated Funerary Objects in the Possession of the Naval Base Ventura (NBVC) San Nicolas Island Curation Facility,” is corrected by substituting the following sentence:

The 33 associated funerary objects, listed as individual or grouped catalogued items, are one aves beak, one bag of Haliotis, broken, one cut/worked bird bone, one cut and worked shell, one lot of cut, worked, abraded, punched, and broken abalone shell, one cut/worked/abraded red abalone shell, one cut faunal bone, two Olivella shell side walls, one ornament fragment, three projectile points, two fragments of red ochre pigment, one sandstone burial marker, one sandstone nodule with red ochre stain, one sea grass, twined, with detritus, one shell columella, eight whole and broken shell fishhooks, three shell fishhook blanks, one frontal marine mammal tooth, one whale bone wedge, and one whole abalone shell.

In the Federal Register (80 FR 10508, February 26, 2015), column 3, paragraph 1, under the heading “(iii) Human Remains and Associated Funerary Objects in the Possession of the Naval Base Ventura (NBVC) San Nicolas Island Curation Facility,” is corrected by substituting the following paragraph:

In 1977, human remains representing, at minimum, eight individuals were collected during excavations conducted by George Kritzman and others. These human remains were collected from 5 SNI sites—CA-SNI-5, CA-SNI-11, CA-SNI-47, CA-SNI-55 and CA-SNI-146. No known individuals were identified. The 14 associated funerary objects, listed as individual or grouped catalogued items, are divided among the different sites. The nine associated funerary objects from SNI-47 are two projectile points, four shell fish hook blanks, one rim tool, one lot asphaltum with possible basketry impressions, and one drill. The five associated funerary objects from SNI-55 are one rim tool, one gorge, one bead blank, one lot of asphaltum water bottle impressions, and one lot of asphaltum basketry impressions.

In the Federal Register (80 FR 10508, February 26, 2015), column 3, paragraph 2, sentence 1, under the heading “(iii) Human Remains and Associated Funerary Objects in the Possession of the Naval Base Ventura (NBVC) San Nicolas Island Curation Facility,” is corrected by substituting the phrase “1 individual” with the phrase “two individuals.”

In the Federal Register (80 FR 10508, February 26, 2015), column 3, paragraph 2, sentence 4, under the heading “(iii) Human Remains and Associated Funerary Objects in the Possession of the Naval Base Ventura (NBVC) San Nicolas Island Curation Facility,” is corrected by substituting the following sentence:

The one associated funerary object, listed as grouped catalogued items, is one lot of miscellaneous faunal remains (shell, fishbone, etc.).

In the Federal Register (80 FR 10508, February 26, 2015), column 3, paragraph 3, sentence 4, under the heading “(iii) Human Remains and Associated Funerary Objects in the Possession of the Naval Base Ventura (NBVC) San Nicolas Island Curation Facility,” is corrected by substituting the following sentence:

The eight associated funerary objects, listed as individual or grouped catalogued items, are two shell fishhook blanks, one lot of skirt weights, four bags of unsorted mixed shell and lithics, and one spire ground shell bead.

In the Federal Register (80 FR 10508, February 26, 2015), column 3, paragraph 4, sentence 1, under the heading “(iii) Human Remains and Associated Funerary Objects in the Possession of the Naval Base Ventura (NBVC) San Nicolas Island Curation Facility,” is corrected by substituting the number “5” with the number “7.”

In the Federal Register (80 FR 10508, February 26, 2015), column 3, paragraph 4, sentence 4, under the heading “(iii) Human Remains and Associated Funerary Objects in the Possession of the Naval Base Ventura (NBVC) San Nicolas Island Curation Facility,” is corrected by substituting the following sentence:

The 37 associated funerary objects, listed as individual or grouped catalogued items, are one marine mammal tooth, one cut marine mammal mandible w/asphaltum, one awl, six bags of flaked stone, one bag of mixed flaked stone, sandstone and bone, three bags of mixed lithics and shell, one bag of mixed shell, flaked stone & bone, three bags of mixed shell, one bag of mixed shell and bone, one lot of basketry impressions, one shell bead, one shell bead blank, one Mytilus californianus disk bead, one biface fragment, one crab claw and asphaltum, one lot of mixed faunal bone, three lots of disk beads, one lot of spire-lopped Olivella beads, one lot of unmodified pebbles, one lot of shell, sand and asphaltum w/basketry impressions, one lot of whole Olivella shells, one lot of worked and perforated serpentine, one Olivella biplicata bead, one bag of shell and asphaltum, one soapstone tube/bead, and one Tachycardium sp. shell fragment.

In the Federal Register (80 FR 10509, February 26, 2015), column 1, paragraph 1, under the heading “(iii) Human Remains and Associated Funerary Objects in the Possession of the Naval Base Ventura (NBVC) San Nicolas Island Curation Facility,” is corrected by substituting the following paragraph:

In 1989, human remains representing, at minimum, eight individuals were collected during excavations conducted by Steven Schwartz, George Kritzman, Audrey Schwartz, and others from the Department of the Navy's Cultural Resources management program. These human remains were collected from four SNI sites—CA-SNI-168, CA-SNI-171, CA-SNI-214, and CA-SNI-221. No known individuals were identified. The 116 associated funerary objects, listed as individual or grouped catalogued items, are divided among the different sites. The two associated funerary objects from SNI-168 are one broken red abalone and one lot asphaltum fragments. The 114 associated funerary objects from SNI-214 are two lots asphaltum impressions, one lot asphaltum basketry impressions, one asphaltum water bottle with stopper and Haliotis fragments, one biface fragment, one biface knife, two bifaces with asphaltum on base, one disc bead, one bird bone, two lots bird bone fragments, one bone tool, three bowl fragments, two lots carbonized wood, one composite spear with asphaltum, one Delphinidae jaw, one complete dog skeleton, one bag of fish bone, two fish hooks, five fish hook blanks, two incised soapstone, one bag of lithics, one lot of flaked stone, one lot of manuports, two Marine mammal bone awl or punch, one cut Marine mammal bone fragment, one marine mammal scapula, one mortar, one lot Mytilus californianus shell, two pestles, three pestle bases, two pestle fragments, one pestle mid-section, one lot red ochre, one possible sandstone saw, one pressure flaker, nine projectile points, one projectile point base, one projectile point fragment, two projectile point midsections, one projectile point tip, two projectile point with asphaltum on base, one projectile point spear head, one punch or awl, three marine mammal ribs with asphaltum, two lots sandstone dish fragments, one sandstone slab, one sandstone tool, one possible sandstone weight, one scraper, one shell bottle stop, one soapstone healing stone, two soapstone pendants, one lot of variously abraded, drilled or raw soapstone, one bag of soil from inside mortar, one lot tarring pebbles, one Tachycardium shell, one bag unworked bone fragments, one unworked mammal rib, one piece unworked sandstone, one lot unworked shell, one unworked stone with asphaltum, two unworked whale bones, one whale bone chisel, five whale bone pry, three whale bone wand, one whale bone wand tip, one whale bone epiphyseal plate, five whole and fragmentary whale scapulae, one piece of wood, one piece of wood with asphaltum and charcoal, one piece pecked sandstone, and two pieces abraded soapstone.

In the Federal Register (80 FR 10509, February 26, 2015), column 1, paragraph 2, under the heading “(iii) Human Remains and Associated Funerary Objects in the Possession of the Naval Base Ventura (NBVC) San Nicolas Island Curation Facility,” is corrected by inserting the following sentence after sentence 3:

The human remains are noted as missing since 2016.

In the Federal Register (80 FR 10509, February 26, 2015), column 1, paragraph 3, sentence 1, under the heading “(iii) Human Remains and Associated Funerary Objects in the Possession of the Naval Base Ventura (NBVC) San Nicolas Island Curation Facility,” is corrected by substituting the following sentence:

In 2000, human remains representing, at minimum, one individual were collected by Steve Schwartz and Lisa Thomas because of their progressive exposure by erosion.

In the Federal Register (80 FR 10509, February 26, 2015), column 1, paragraph 4, sentence 1, under the heading “(iii) Human Remains and Associated Funerary Objects in the Possession of the Naval Base Ventura (NBVC) San Nicolas Island Curation Facility,” is corrected by substituting the number “2” with the number “3.”

In the Federal Register (80 FR 10509, February 26, 2015), column 2, paragraph 1, sentence 3, under the heading “(iii) Human Remains and Associated Funerary Objects in the Possession of the Naval Base Ventura (NBVC) San Nicolas Island Curation Facility,” is corrected by substituting the following sentence:

The six associated funerary objects, listed as individual or grouped catalogued items, are one lot of shell beads, one shell bead, one lot of fragmentary marine shell, one lot of stone fragments, one lot of fragmentary mixed fish, human and mammal bone, and one lot of fragmentary bone, charcoal and asphaltum.

In the Federal Register (80 FR 10509, February 26, 2015), column 2, paragraph 2, under the heading “(iii) Human Remains and Associated Funerary Objects in the Possession of the Naval Base Ventura (NBVC) San Nicolas Island Curation Facility,” is corrected by deleting the following paragraph:

An additional set of human remains representing, at minimum, 1 individual that also lacks specific information on the date of collection/donation or a collector, does have accompanying documentation indicating it was collected from site CA-SNI-171. No known individual was identified. No associated funerary objects are present.

In the Federal Register (80 FR 10509, February 26, 2015), column 2, paragraph 4, under the heading “(iii) Human Remains and Associated Funerary Objects in the Possession of the Naval Base Ventura (NBVC) San Nicolas Island Curation Facility,” is corrected by substituting the following paragraphs:

NAGPRA items in collections at the SNI Curation Facility include one funerary object associated with human remains located at the Southwest Museum/Autry Museum and reported under subparagraph (vi) of this notice. This associated funerary object is a unmodified abalone shell that was collected by Rozaire in 1960 at site CA-SNI-41 and donated to the Southwest Museum.

NAGPRA items in collections at the SNI Curation Facility also include one funerary object associated with human remains located at the Southwest Museum/Autry Museum and reported under subparagraph (vi) of this notice. This associated funerary object is a fragment of sea grass matting that was collected by an unknown party in 1984 at site CA-SNI-325 and donated to the Southwest Museum.

In the Federal Register (80 FR 10509, February 26, 2015), column 2, paragraph 5, under the heading “(iv) Navy-Controlled SNI Human Remains and Associated Funerary Objects at the San Diego Museum of Man,” is corrected by deleting the following paragraph:

In 1899, human remains representing, at minimum, one individual were collected by Mrs. L. H. Sherman and donated to the San Diego Museum of Man. No primary documentation or specific provenience information beyond their SNI origin exists for these human remains. No known individual was identified. No associated funerary objects are present.

In the Federal Register (80 FR 10509, February 26, 2015), column 3, paragraph 1, under the heading “(iv) Navy-Controlled SNI Human Remains and Associated Funerary Objects at the San Diego Museum of Man,” is corrected by substituting the following paragraph:

In 1930, human remains representing, at minimum, 140 individuals, including some cremated remains, were collected by Malcolm J. Rogers during an expedition for the San Diego Museum of Man. These human remains were excavated or collected on the surface from 31 SNI sites with Rogers' field numbers (with equivalent Smithsonian trinomial, when known) SN-01 (CA-SNI-7), SN-01A (CA-SNI-5), SN-03 (CA-SNI-4), SN-04 (CA-SNI-3), SN-05 (CA-SNI-137), SN-06, SN-07 (CA-SNI-54), SN-07A (CA-SNI-318), SN-12 (CA-SNI-11), SN-13 (CA-SNI-12), SN-14 (CA-SNI-25), SN-15 (CA-SNI-21), SN-16, SN-17 (CA-SNI-141), SN-18 (CA-SNI-15/16), SN-19 (CA-SNI-158), SN-20 (CA-SNI-56), SN-21, SN-21A (CA-SNI-157), SN-21A (CA-SNI-159), SN-21A (CA-SNI-160), SN-21A (CA-SNI-161), SN-21A (CA-SNI-171), SN-21B (CA-SNI-18), SN-21C (CA-SNI-39), SN-22, SN-23 (CA-SNI-41), SN-24 (CA-SNI-20), SN-26, SN-27, SN-31, and some without site attribution. No known individuals were identified. The 186 associated funerary objects, listed as individual or grouped catalogued items, are grouped by site. The four associated funerary objects from SN-01 (SNI-7) are one scarified mortar and three dog burials. The two associated funerary objects from SN-06 are unmodified abalone shells. The 15 associated funerary objects from SN-07 (SNI-54) are two bowl fragments, one broken steatite pendant, one lot of burned animal bones, one chipped stone fragment, two doughnut stones, one Olivella bead side section, one projectile point, one stone effigy, one stone pendant, three stone spindles and one unmodified animal femur. The one associated funerary object from SN-07A (SNI-318) is an animal femur. The one associated funerary object from SN-13 (SNI-12) is a groundstone. The 46 associated funerary objects from SN-14 (SNI-25) are two arrow points, one bone awl, one bone harpoon, one bone with asphaltum, 11 broken steatite doughnut stones, one burned fish hook, one Franciscan chert blade fragment, two incised steatite bowl fragments, one incised steatite tablet, one modified animal bone with filigree incising, one lot of modified stone, two lots of modified stone bowl fragments, one obsidian knife, one ovate chert knife, one pendant, two lots of shell beads, one small obsidian spear point, one lot of steatite and shell beads, two lots of steatite bowl fragments, one lot of steatite bowl fragments with asphaltum, one steatite seal effigy, two stone beads, one stone pendant fragment, and seven whale bone tool fragments. The seven associated funerary objects associated with SN-15 (SNI-21) are one lot of asphaltum with basketry impressions, one lot of modified shell, one modified bird bone, three modified stone fragments, and one lot of modified whale bone fragments. The five associated funerary objects associated with SN-16 are one sandstone fish hook reamer, one lot of bivalve marine shells, one lot of beads, one necklace of Olivella beads, and one lot of Olivella square shell beads. The one associated funerary object associated with SN-18 (SNI-15/16) is a lot of beads. The two associated funerary objects associated with SN-19 (SNI-158) are one pestle and one mortar. The eight associated funerary objects associated with SN-20 (SNI-56) are one lot of bird bone beads, one alabaster bead, one steatite pendant, one lot of animal bone fragments, one bone awl, one animal bone tool, one steatite bowl, and one steatite canoe effigy. The 30 associated funerary objects from SN-21A are three lots of beads, one lot of shell beads with pendant, one concretion or root cast file, one deer bone awl base, one flake scraper, four ground stone pestles, one lot of yellow ochre, two lots of modified animal bone, one obsidian projectile point, one obsidian projectile point tip, one lot of Olivella, keyhole limpet and tufa beads, three pendants, two red ochre fragments, one root cast, one soil sample, one stone canoe effigy, one tufa stone, two lots of vessel fragments, one lot of possible whale bone grave markers, and one whale bone spear point. The three associated funerary objects from SN-21A (SNI-157) are one deer antler pressure flaker, one lot of Olivella shell beads, and one quartzite stone for melting asphaltum. The three associated funerary objects from SN-21A (SNI-159) are two obsidian spear points and one necklace of steatite and Olivella shell beads. The four associated funerary objects from SN-21A (SNI-160) are one steatite ring fragment, two fish hook reamers, and one lot of Olivella shell beads. The one associated funerary object from SA-21A (SNI-171) is a lot of modified pelican bone. The two associated funerary objects associated with SN-22 are one modified whale bone fragment, and one steatite bead. The 31 associated funerary objects associated with SN-23 (SNI-41) are one chisel with asphaltum, 10 ground stone pendant and vessel fragments, 11 chipped stone tools (projectile point, biface and flakes), one groundstone vessel fragment, seven bone tools and one lot of shell beads. The seven associated funerary objects associated with SN-24 (SNI-20) are one stone pipe with single groove base, one wood tool, two projectile points, one lot of modified bone tools, one canid cranium, and one lot of modified stone. The 13 associated funerary objects associated with SN-31 are two lots of modified bone, five modified bone pendants, one lot of modified lithics, and five lots of shell beads.

In the Federal Register (80 FR 10509, February 26, 2015), column 3, paragraph 2, sentence 1, under the heading “(iv) Navy-Controlled SNI Human Remains and Associated Funerary Objects at the San Diego Museum of Man,” is corrected by substituting the following sentence:

In 1937 and 1939, human remains representing, at minimum, 26 individuals, including four cremations, were transferred to the San Diego Museum of Man from the San Diego Museum of Natural History.

In the Federal Register (80 FR 10509, February 26, 2015), column 3, paragraph 2, sentence 5, under the heading “(iv) Navy-Controlled SNI Human Remains and Associated Funerary Objects at the San Diego Museum of Man,” is corrected by substituting the following sentence:

The five associated funerary objects, listed as individual or grouped catalogued items, include two lots of shell beads, one abalone fishhook, and two steatite effigies.

In the Federal Register (80 FR 10510, February 26, 2015), column 1, paragraph 2, sentence 4, under the heading “(iv) Navy-Controlled SNI Human Remains and Associated Funerary Objects at the San Diego Museum of Man,” is corrected by substituting the following sentence:

The four associated funerary objects, listed as individual or grouped catalogued items, are one abalone shell with asphaltum, one piece of charcoal, one animal bone tool, and one lot of unmodified shells.

In the Federal Register (80 FR 10510, February 26, 2015), column 1, paragraph 3, under the heading “(iv) Navy-Controlled SNI Human Remains and Associated Funerary Objects at the San Diego Museum of Man,” is corrected by substituting the following paragraph:

On an unknown date, human remains representing, at minimum, four individuals were surface collected from SNI and donated to the San Diego Museum of Man. No specific provenience information beyond their SNI origin exists for these human remains; they were most likely collected by Malcom J. Rogers during an expedition for the San Diego Museum of Man in 1930, or part of the 1936 San Diego Natural History Museum transfer. No known individuals were identified. No associated funerary objects are present.

In the Federal Register (80 FR 10510, February 26, 2015), column 1, paragraph 4, under the heading “(v) Navy-Controlled SNI Human Remains and Associated Funerary Objects at the Santa Barbara Museum of Natural History,” is corrected by substituting the following paragraph:

Between 1945 and 1948, human remains representing, at minimum, 19 individuals were collected by Phil Orr during excavations on SNI for the Santa Barbara Museum of Natural History. These human remains were excavated or surface collected from 7 SNI sites—CA-SNI-5 (Orr's 133.5), CA-SNI-7 (Orr's 133.7), CA-SNI-10 (Orr's 133.10), CA-SNI-17 (Orr's 133.15), CA-SNI-21 (Orr's 133.21), Orr's 133.17 and Orr's 133.18. No known individuals were identified. The 17 associated funerary objects, listed as individual or grouped catalogued items, are one abalone shell dish, one large bird radius/ulna, two misc. shells, one lot of Olivella shell beads, one lot of mixed Olivella shell beads and bone points, one string of Olivella shell beads, one lot of shell beads, two spire topped Olivella shell beads, two steatite donut stones, one steatite pendant, and four stone beads.

In the Federal Register (80 FR 10510, February 26, 2015), column 1, paragraph 5, under the heading “(v) Navy-Controlled SNI Human Remains and Associated Funerary Objects at the Santa Barbara Museum of Natural History,” is corrected by deleting the following paragraph:

In 1948, human remains representing, at minimum, two individuals were collected by Phil Orr during excavations at Orr's site number 133.18 (associated state trinomial site number unknown) for the Santa Barbara Museum of Natural History. No known individuals were identified. The one associated funerary object is a lot of shell beads.

In the Federal Register (80 FR 10510, February 26, 2015), column 2, paragraph 1, sentence 1, under the heading “(v) Navy-Controlled SNI Human Remains and Associated Funerary Objects at the Santa Barbara Museum of Natural History,” is corrected by substituting the following sentence:

In 1959, human remains representing, at minimum, one individual were collected by Thomas Bird and donated to the Santa Barbara Museum of Natural History in 1990.

In the Federal Register (80 FR 10510, February 26, 2015), column 2, paragraph 2, sentence 1, under the heading “(v) Navy-Controlled SNI Human Remains and Associated Funerary Objects at the Santa Barbara Museum of Natural History,” is corrected by substituting the following sentence:

In 1960, human remains representing, at minimum, two individuals were collected by David Roy Wiser on a construction site near the Department of the Navy's island airstrip and donated to the Santa Barbara Museum of Natural History.

In the Federal Register (80 FR 10510, February 26, 2015), column 2, paragraph 3, sentence 1, under the heading “(v) Navy-Controlled SNI Human Remains and Associated Funerary Objects at the Santa Barbara Museum of Natural History,” is corrected by substituting the following sentence:

In 1966, human remains representing, at minimum, one individual were collected by U.S. Navy personnel from a site with the Santa Barbara Museum of Natural History Site Number 133.54 (the equivalent Smithsonian trinomial is unknown) and donated to the Santa Barbara Museum of Natural History.

In the Federal Register (80 FR 10510, February 26, 2015), column 2, paragraph 4, sentence 1, under the heading “(v) Navy-Controlled SNI Human Remains and Associated Funerary Objects at the Santa Barbara Museum of Natural History,” is corrected by substituting the following paragraph:

In 1970, human remains representing, at minimum, one individual were donated by Art McHarg to the Santa Barbara Museum of Natural History.

In the Federal Register (80 FR 10510, February 26, 2015), column 3, paragraph 1, under the heading “(vi) Navy-Controlled SNI Human Remains and Associated Funerary Objects at the Southwest Museum of the American Indian at the Autry Museum of the American West,” is corrected by deleting the following paragraph:

Circa 1900, human remains representing, at minimum, one individual were collected by Margaret Nix and donated to the Southwest Museum. No specific provenience information beyond their SNI origin exists for these human remains. No known individual was identified. No associated funerary objects are present.

In the Federal Register (80 FR 10510, February 26, 2015), column 3, paragraph 2, sentence 1, under the heading “(vi) Navy-Controlled SNI Human Remains and Associated Funerary Objects at the Southwest Museum of the American Indian at the Autry Museum of the American West,” is corrected by substituting the following sentence:

Circa 1926, human remains representing, at minimum, two individuals, were collected by Norman Murdoch and donated to the Southwest Museum in 1976.

In the Federal Register (80 FR 10510, February 26, 2015), column 3, paragraph 3, sentence 1, under the heading “(vi) Navy-Controlled SNI Human Remains and Associated Funerary Objects at the Southwest Museum of the American Indian at the Autry Museum of the American West,” is corrected by substituting the following paragraph:

Between 1958 and 1960, human remains representing, at minimum, 48 individuals were collected by Bruce Bryan, Charles Rozaire, George Kritzman, and others during Southwest Museum expeditions to SNI. These human remains were excavated or surface collected from nine SNI sites—CA-SNI-11, CA-SNI-12, CA-SNI-16, CA-SNI-38, CA-SNI-41, CA-SNI-47, CA-SNI-51, CA-SNI-55, CA-SNI-97. No known individuals were identified. The 129 associated funerary objects, listed as individual or grouped catalogued items, are divided among the different sites. The four associated funerary objects from SNI-11 are one lot bird bone, one complete small mortar, one lot red ceramic pieces, and one lot tarring pebbles with asphaltum. The 17 associated funerary objects from SNI-12 are one lot Abalone shell beads, one Abalone shell fragment, three Abalone shell pendants, one lot Abalone square shell beads, one lot coral fragments, one limpet shell, one lot miscellaneous shell fragments, three lots Olivella shell beads, two lots sea urchin fragments, one lot snail shells, and two lots Tegula shell fragments. The 25 associated funerary objects from SNI-16 are four lots Abalone shell fragments, one bag misc. shell and faunal, one bag of burnt pebbles, shell fragments and animal bone, one lot Basketry impression soil, two lots Asphaltum fragments, one lot clam or oyster shell fragments, one lot coral fragments, two lots fish bone, two lots Limpet shells, one Oyster shell pendant, one lot rodent bones, two lots sea urchin fragments, one lot shell beads, one lot shell fragments, two lots snail shell fragments, one lot Tegula shell fragments, and one lot whole Olivella beads. The three associated funerary objects from SNI-38 are one lot Abalone shell fragments, one lot unmodified animal bone, and one steatite effigy. The seven associated funerary objects from SNI-41 are one lot Tegula shells, two lots Abalone shell, one lot unmodified animal bones, one lot Chiton shells, one Olivella shell disc bead, and one sandstone object. The 14 associated funerary objects from SNI-47 are one lot barnacle shell, one lot Abalone shells, one lot mussel shells, one Tegula shell, two granite bowl fragments, one Limpet shell, two polished soapstone effigy fragments, one lot red Abalone shells, one sandstone mano, one lot sea urchin fragments, one shell fragment, and one woven sea grass fiber. The 33 associated funerary objects from SNI-51 are one lot of misc. worked and unworked shell, four lots of mixed stone, shell and bone tools, beads, and lithics, with misc. fragments of animal bone and shell, one lot of tarred pebbles with one flake, one clump of soil with sea grass, two lots animal bone, three unmodified animal bones, two lots charcoal, one modified animal bone, two lots burned bone beads with circular incised groove, one lot burned bone tube beads, one lot tube beads, two lots disc-shaped beads, one lot disc-shaped shell beads, one Conus californicus spire-lopped shell bead, one lot disc-shaped stone beads, two lots Mytilus disc-shaped shell beads with centrally-drilled hole, one lot Olivella shell bead blank, one lot Olivella shell beads, one lot red ochre pigment fragments, three lots spire-lopped shell beads, and one lot woven seagrass pieces. The two associated funerary objects from SNI-55, listed as individual or grouped catalogued items, are one lot Abalone shell beads and one lot Olivella shell beads. The 24 associated funerary objects from SNI-97 are two asphaltum fragments, one bag of seagrass cordage and matting with one bone fragment, two bundles of fibers and soil, one lot sea grass cordage, one lot Black Abalone shells, one burned and ground animal bone fragments, one lot of ground animal bone fragment, one lot burned wood fragments, one core hammerstone, one Cowrie shell fragment, one Mussel shell fragment, one lot fish and animal bone, one ground stone fragment, two stone scrapers, two Quartzite flake or pestle fragments, one lot shell beads, one lot shell fragments, one stone hoe or chopper, one lot of unworked pebble and one possible scraper.

In the Federal Register (80 FR 10510, February 26, 2015), column 3, paragraph 4, sentence 1, under the heading “(vi) Navy-Controlled SNI Human Remains and Associated Funerary Objects at the Southwest Museum of the American Indian at the Autry Museum of the American West,” is corrected by substituting the following sentence:

Between 1977 and 1984, human remains representing, at minimum, four individuals were collected from sites CA-SNI-11, CA-SNI-12, CA-SNI-13 and CA-SNI-54 by George Kritzman, Fred Reinman, and others during California State University Los Angeles research on SNI and donated to the Southwest Museum at an unknown date.

In the Federal Register (80 FR 10511, February 26, 2015), column 1, paragraph 1, sentence 3, under the heading “(vi) Navy-Controlled SNI Human Remains and Associated Funerary Objects at the Southwest Museum of the American Indian at the Autry Museum of the American West,” is corrected by substituting the following sentence:

The 88 associated funerary objects, listed as individual or grouped catalogued items are one lot of undifferentiated animal bone, 81 bone awls, one lot of green abalone fragments, one lot of mussel shell fragments, one coral bead, one lot of sea-matting, cordage and fibers, one shell fragment, and one lot of soil and bone fragments.

In the Federal Register (80 FR 10511, February 26, 2015), column 1, paragraph 2, sentence 3, under the heading “(vi) Navy-Controlled SNI Human Remains and Associated Funerary Objects at the Southwest Museum of the American Indian at the Autry Museum of the American West,” is corrected by substituting the following sentence:

The one associated funerary object, listed as an individual catalogued item, is a clam shell.

In the Federal Register (80 FR 10511, February 26, 2015), column 1, paragraph 3, under the heading “(vi) Navy-Controlled SNI Human Remains and Associated Funerary Objects at the Southwest Museum of the American Indian at the Autry Museum of the American West,” is corrected by deleting the following paragraph:

One additional set of human remains representing, at minimum, 1 individual, that also has no specific information on date of collection/donation or a collector, does have accompanying documentation indicating it was collected from site CA-SNI-11. No known individual was identified. No associated funerary objects are present.

In the Federal Register (80 FR 10511, February 26, 2015), column 1, paragraph 4, under the heading “(vii) Navy-Controlled SNI Human Remains and Associated Funerary Objects at the U.C. Berkeley Phoebe A. Hearst Museum of Anthropology,” is corrected by deleting the following paragraph:

In 1901, human remains representing at minimum, 2 individuals were collected by P.M. Jones and donated to the Lowie Museum of Anthropology (the predecessor of the U.C. Berkeley Phoebe A. Hearst Museum of Anthropology). No primary documentation or specific provenience information beyond their SNI origin exists for these human remains. No known individuals were identified. No associated funerary objects are present.

In the Federal Register (80 FR 10511, February 26, 2015), column 1, paragraph 5, under the heading “(vii) Navy-Controlled SNI Human Remains and Associated Funerary Objects at the U.C. Berkeley Phoebe A. Hearst Museum of Anthropology,” is corrected by deleting the following paragraph:

In 1902, human remains representing, at minimum, 24 individuals were collected by Mrs. Blanche Trask during her botanical survey of SNI and donated to the then Lowie Museum of Anthropology. No primary documentation or specific provenience information beyond their SNI origin exists for these human remains. No known individuals were identified. The 1 associated funerary object is a large abalone shell lying atop the cranium of the individual human remains cataloged as 382-12-2187.

In the Federal Register (80 FR 10511, February 26, 2015), column 2, paragraph 1, sentence 1, under the heading “(vii) Navy-Controlled SNI Human Remains and Associated Funerary Objects at the U.C. Berkeley Phoebe A. Hearst Museum of Anthropology,” is corrected by substituting the number “17” with the number “18.”

In the Federal Register (80 FR 10511, February 26, 2015), column 2, paragraph 2, sentence 1, under the heading “(vii) Navy-Controlled SNI Human Remains and Associated Funerary Objects at the U.C. Berkeley Phoebe A. Hearst Museum of Anthropology,” is corrected by substituting the number “2” with the number “3.”

In the Federal Register (80 FR 10511, February 26, 2015), column 2, paragraph 2, under the heading “(vii) Navy-Controlled SNI Human Remains and Associated Funerary Objects at the U.C. Berkeley Phoebe A. Hearst Museum of Anthropology,” is corrected by inserting the following sentence after sentence 1:

The human remains were originally donated through the U.C. Museum of Paleontology.

In the Federal Register (80 FR 10511, February 26, 2015), column 2, the following information is added after paragraph 2:

(viii) Navy-Controlled SNI Human Remains and Associated Funerary Objects at the Fowler Museum at UCLA

In 1953, human remains representing, at minimum, two individuals (two adult females) were possibly collected by Clement Meighan and Hal Eberhart from site CA-SNI-56/18A. No known individuals were identified. One associated funerary object was collected, a spool-shaped object made from a whale vertebra.

In 1956, human remains representing, at, minimum one individual (an adult female) was surface collected from San Nicolas Island and brought into the UCLA Dickey Biology collections. It was transferred to the Fowler Museum in 1993 for NAGPRA inventory. No known individual was identified. No associated funerary objects are present.

In 1960, human remains representing, at minimum one individual (an infant), was surface collected from San Nicolas Island by Sam-Joe Townsend & S. Rootenberg without further provenience information. No known individual was identified. No associated funerary objects are present.

(ix) Navy-Controlled SNI Human Remains and Associated Funerary Objects at the Natural History Museum of Los Angeles County

In the 1930s, human remains representing, at minimum, four individuals were collected by an individual named Howard Arden Edwards of the Antelope Valley Museum. The human remains were transferred to the Natural History Museum of Los Angeles County by Grace Oliver of the Antelope Valley Museum in 1979. No primary documentation or specific provenience information beyond their SNI origin exists for these human remains. No known individuals were identified. No associated funerary objects are present.

In an unknown year, human remains representing, at minimum, 20 individuals were collected by Roy Moodie and later donated to the Natural History Museum of Los Angeles County in 1970. No specific provenience information beyond their SNI origin exists for these human remains. No known individuals were identified. No associated funerary objects are present.

In an unknown year, human remains representing, at minimum, one individual were donated by S.C. Evans to the Natural History Museum of Los Angeles County. No specific provenience information beyond their SNI origin exists for these human remains. No known individuals were identified. No associated funerary objects are present.

(x) Human Remains and Associated Funerary Objects in the Possession of the Naval Base Ventura (NBVC) San Nicolas Island Curation Facility

In 1991, human remains representing, at minimum, one individual were collected by Dana Bleitz in a caliche soil sample from CA-SNI-351; the embedded human remains were only identified when the sample was being cleaned ca. 2015. No known individuals were identified. No associated funerary objects are present.

In 1999, human remains representing, at minimum, one individual were collected by CSU Los Angeles during excavation of a historic-period Chinese abalone site, CA-SNI-323H. No known individuals were identified. No associated funerary objects are present.

In 2005, human remains representing, at minimum, one individual were collected by CSULA from CA-SNI-238; but were only identified when unsorted screened material was processed by Far Western Anthropological Research Group, Inc., in 2013. No known individuals were identified. No associated funerary objects are present. Documentation indicates theses human remains were transferred to the San Nicolas Island Curation Facility. These human remains have been missing since 2013.

In 2006, human remains representing, at minimum, one individual were collected by California State University, Fullerton from CA-SNI-503; only identified when previously unsorted screened material was processed by Far Western Anthropological Research Group, Inc. in 2013. No known individuals were identified. No associated funerary objects are present. Documentation indicates these human remains were transferred to the San Nicolas Island Curation Facility. These human remains have been missing since 2013.

NAGPRA items in collections at the SNI Curation Facility include two funerary objects associated with human remains located at the Fowler Museum at UCLA and reported in subparagraph (i) of this notice. These associated funerary objects, listed as grouped catalogued items, are one lot of spire-lopped shell beads and one lot of bird bone beads that was collected by Sam-Joe Townsend and Fred Reinman in 1959 at sites SNI-14 and SNI-15 as part of the UCLA Archeological Survey.

(xi) Navy-Controlled SNI Human Remains and Associated Funerary Objects at the San Diego Museum of Man

On an unknown date, human remains representing, at minimum, one individual who had been cremated, were collected from SNI and donated to the San Diego Museum of Man. They were identified during a comprehensive inventory of storage areas. No specific provenience information beyond their SNI origin exists for these human remains. No known individual was identified. No associated funerary objects are present.

(xii) Navy-Controlled SNI Human Remains and Associated Funerary Objects at the Santa Barbara Museum of Natural History

In 1917, human remains representing, at minimum, one individual were collected by an unknown individual and accessioned by the Santa Barbara Museum of Natural History in 2014. No specific provenience information beyond their SNI origin exists for these human remains. No known individual was identified. No associated funerary objects are present.

In the 1950s, human remains representing, at minimum, two individuals were collected by an unnamed geologist and later given to a local Chumash individual, who donated them to the Santa Barbara Museum of Natural History in 2000. No specific provenience information beyond their SNI origin exists for these human remains. No known individual was identified. No associated funerary objects are present.

In 1976, human remains representing, at minimum, one individual were collected by R. Russell and initially given to Channel Islands National Park, who then conveyed them to the Santa Barbara Museum of Natural History. No primary documentation or specific provenience information beyond their SNI origin exists for these human remains. No known individual was identified. No associated funerary objects are present.

In 1976, human remains representing, at minimum, two individuals were surface collected by an unknown individual and donated to the Santa Barbara Museum of Natural History. No specific provenience information beyond their SNI origin exists for these human remains. No known individual was identified. No associated funerary objects are present.

Navy-controlled NAGPRA items at the Santa Barbara Museum of Natural History also include human remains representing, at minimum, three individuals, that have information on the date of donation (1976, 1992 and 1998, respectively), but lack the name of the collectors or site provenience beyond their SNI origin. No known individual was identified. No associated funerary objects are present.

(xiii) Navy-Controlled SNI Human Remains and Associated Funerary Objects at the Naval Air Weapons Station (NAWS) China Lake Curation Facility

In 1993, human remains representing, at minimum, one individual were collected by California State University, Fullerton from CA-SNI-38; but were only identified when previously uncatalogued material was cataloged by the Navy Region Southwest Curation Specialist in 2018. The collection was curated at the Naval Base Ventura County (NBVC) San Nicolas Island Curation Facility from the time of excavation until it was transferred to the NAWS China Lake Curation Facility in 2016. No known individuals were identified. The 32 associated funerary objects, listed as individual or grouped catalogued items, are one piece of porphyritic metavolcanic debitage, one piece of metavolcanic debitage, three lots Balanus sp., three lots charcoal, two lots Cirripedia, one lot Decapoda sp., one lot Haliotis cracherodii, one lot Haliotis sp., one lot Helix sp., one lot Lottia gigantea, two lots Mytilus californianus, one lot red ochre, one lot Olivella biplicata, three lots pisces (undiff.), one lot pisces vertebrae, one lot Septifer bifurcates, six lots Strongylocentrotus sp., one lot Tegula sp., and one lot vermitidae.

In the Federal Register (80 FR 10511, February 26, 2015), column 2, paragraph 3 sentence 1 is corrected by substituting the following sentence:

Pursuant to 25 U.S.C. 3001(9), the human remains described in this notice represent the physical remains of 547 individuals of Native American ancestry.

In the Federal Register (80 FR 10511, February 26, 2015), column 2, paragraph 3, sentence 2 is corrected by substituting the following sentence:

Pursuant to 25 U.S.C. 3001(3)(A), the 1,017 objects described in this notice are reasonably believed to have been placed with or near individual human remains at the time of death or later as part of the death rite or ceremony.

In the Federal Register (80 FR 10511, February 26, 2015), column 2, paragraph 3, sentence 3 is corrected by substituting the following sentence:

Pursuant to 25 U.S.C. 3001(2), there is a relationship of shared group identity that can be reasonably traced between the Native American human remains and associated funerary objects and the Pauma Band of Luiseño Mission Indians of the Pauma & Yuima Reservation, California; Pechanga Band of Luiseño Mission Indians of the Pechanga Reservation, California; Rincon Band of Luiseño Mission Indians of the Rincon Reservation, California; and the Santa Ynez Band of Chumash Mission Indians of the Santa Ynez Reservation, California, hereafter referred to as “The Tribes.”

Additional Requestors and Disposition

Lineal descendants or representatives of any Indian Tribe or Native Hawaiian organization not identified in this notice that wish to request transfer of control of these human remains and associated funerary objects should submit a written request with information in support of the request to Mr. Joseph Montoya, Environmental Planning and Conservation Branch Manager, Naval Base Ventura County, 311 Main Road, Building 1, Code N45V, Point Mugu, CA 93042, telephone (805) 989-3804, email joseph.l.montoya@navy.mil, by December 19, 2018. After that date, if no additional requestors have come forward, transfer of control of the human remains and associated funerary objects to The Tribes may proceed.

The Department of the Navy is responsible for notifying The Tribes that this notice has been published.

Dated: October 9, 2018.
Melanie O'Brien,
Manager, National NAGPRA Program.

[FR Doc. 2018-25123 Filed 11-16-18; 8:45 am]

BILLING CODE 4312-52-P